DEPARTMENT OF TRANSPORTATION

Office of the Secretary

Aviation Proceedings, Agreements Filed the Week Ending January 28, 2005

The following Agreements were filed with the Department of Transportation under the provisions of 49 U.S.C. 412 and 414. Answers may be filed within 21 days after the filing of the application.

Docket Number: OST-2005-20165.

Date: Filed: January 24, 2005.

Parties: Members of the International Air Transport Association.

Subject:

PTC3 0819 dated 24 January 2005.

Mail Vote 430—Resolution 010f—TC3 Japan, Korea-South East Asia Special Passenger Amending Resolution between Japan and China (excluding Hong Kong SAR and Macao SAR) r1-r9.

Intended effective date: 10 February 2005.

Docket Number: OST-2005-20167.

Date Filed: January 24, 2005.

Parties: Members of the International Air Transport Association.

Subject:

PTC3 0820 dated 24 January 2005.

Mail Vote 432—Resolution 010h—TC3 Japan, Korea—South East Asia Special Passenger Amending Resolution between Japan and China (excluding Hong Kong SAR and Macao SAR) r1-r9.

Intended effective date: 1 March 2005.

Docket Number: OST-2005-20252.

Date Filed: January 27, 2005.

Parties: Members of the International Air Transport Association.

Subject:

Mail Vote 428—Memorandum PTC3 0821, PTC23 EUR-J/K 0120, PTC23 ME-TC3 0226, PTC23 AFR-TC3 0261, PTC31 N&C/CIRC 0300, PTC123 0306 dated 28 January 2005.

Resolution 010d—Special Passenger Amending Resolution from Japan r1-r12.

Intended effective date: 15 January 2005.

Docket Number: OST-2005-20260.

Date Filed: January 28, 2005.

Parties: Members of the International Air Transport Association.

Subject:

PTC23 EUR-SEA 0194 dated 17 December 2004.

Europe-South East Asia Resolutions r1-r14.

PTC23 EUR-SEA 0195 dated 14 January 2005.

Europe-South East Asia Resolutions Technical Correction Minutes: PTC23 EUR-SEA 0199 dated 27 January 2005.

Tables: PTC23 EUR-SEA Fares 0059 dated 21 December 2004 Europe-South East Asia Specified Fares Tables.

Intended effective date: 1 April 2005.

Renee V. Wright,
Acting Program Manager, Alternate Federal Register Liaison.

[FR Doc. 05-2862 Filed 2-14-05; 8:45 am]

BILLING CODE 4910-62-P